DEPARTMENT OF HEALTH AND HUMAN SERVICES

Centers for Disease Control and Prevention

[60Day-13-0733]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, at 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Early Hearing Detection and Intervention Hearing Screening and Follow-up Survey (OMB No. 0920-0733, Expiration 06/30/2013)—Reinstatement with Change—National Center on Birth Defects and Developmental Disabilities (NCBDDD), Centers for Disease Control and Prevention (CDC).

Background and Brief Description

The National Center on Birth Defects and Developmental Disabilities at CDC promotes the health of babies, children, and adults with disabilities. As part of these efforts the Center is actively involved in addressing hearing loss (HL) among newborns and infants. HL is a common birth defect that affects approximately 12,000 infants each year and, when left undetected, can result in developmental delays. As awareness about infant HL increases, so does the demand for accurate information about rates of screening, referral, loss to follow-up, and prevalence. This information is important for helping to ensure infants and children are receiving recommended screening and follow-up services, documenting the occurrence of differing degrees of HL among infants, and assessing progress towards national goals. These data will also assist state Early Hearing Detection and Intervention (EHDI) programs with quality improvement activities and provide information that will be helpful in assessing the impact of federal initiatives. The public will be able to access this information via the CDC EHDI Web site (www.cdc.gov/ncbddd/hearingloss/ehdi-data.html).

Given the lack of a standardized and readily accessible source of data, the CDC EHDI program developed a survey to be used annually that utilizes uniform definitions to collect aggregate, standardized EHDI data from states and territories. The request to complete this survey is planned to be disseminated to respondents via an email, which will include a summary of the request and other relevant information. Minor changes to this survey, based on respondent feedback, are planned in order to make the survey easier to complete and further improve data quality. These changes include splitting the previously combined question about the number of infants that were non-residents or moved out jurisdiction into two separate questions and adding new questions. These include questions about how many infants were in a neonatal intensive care unit for more than 5 days, transferred without any documentation of a hearing screening, unable to be screened or receive diagnostic testing due to a medical reason, number of cases where a primary care physician did not refer an infant for diagnostic testing, and cases of permanent hearing loss among non-resident infants. The table for reporting type and severity of hearing loss data has also been updated so this data can be reported using either the classification system from the American Speech and Hearing Association or the current system from the Directors of Speech and Language Programs in State Health and Welfare Agencies.

A total of 59 respondents will be asked to complete the updated data request each year during the 3-year requested data collection approval timeframe. Based on findings from the previous information collection, it is estimated that the burden for individuals to read through the survey and decide whether or not to complete it is 10 minutes per person. The 10 minute calculation was based on feedback received in pre-tests with 5 individuals and confirmed by the experience with the survey since the original Office of Management and Budget (OMB) approval.

It is expected that 55 of the 59 potential respondents will complete the survey and therefore incur an additional burden of up to 4 hours per respondent. However, based on feedback from consulted experts about the length of time required to complete the original information collection it is anticipated that it will only take some respondents a few minutes to complete the revised data request. This is because jurisdictions often have already gathered and compiled the requested data for their own internal uses. Nevertheless, the more conservative time estimate of 4 hours per response from each of the 55 anticipated participants is shown in the table below. The estimated annualized burden is 230 hours. This estimate is identical to the time estimate for the reinstated OMB approved estimate from 2010; the only change is the estimated number of respondents. There are no costs to the respondents other than their time.

Estimated Annualized Burden Hours
Respondents | Form name | No. of respondents | No. of responses per respondent | Average burden per response (in hours) | Total burden (in hours)
State and territory EHDI Program Coordinators | Survey Directions | 59 | 1 | 10/60 | 10
EHDI Program State Program Coordinators | Survey | 55 | 1 | 4 | 220
TOTAL |  |  |  |  | 230

Dated: March 21, 2013.
Ron A. Otten,
Director, Office of Scientific Integrity, Office of the Associate Director for Science, Office of the Director, Centers for Disease Control and Prevention.

[FR Doc. 2013-07230 Filed 3-27-13; 8:45 am]

BILLING CODE 4163-18-P